EXPORT-IMPORT BANK

[Public Notice: EIB-2020-0007]

Proposal To Adopt the 2010 Small Business Jobs Act Interim Rule as an Alternative Size Standard for Defining a Small Business for Export-Import Bank Programs; Correction

AGENCY: Export-Import Bank of the United States.

ACTION: Notice; correction.

SUMMARY: The Export-Import Bank of the United States published a document in the Federal Register of August 30, 2020 concerning a proposal to adopt the 2010 Small Business Jobs Act Interim Rule as an Alternative Size Standard for Defining a Small Business for Export-Import Bank Programs. The document published with an omitted sentence.

FOR FURTHER INFORMATION CONTACT: James Burrows, Senior Vice President, Office of Small Business, Export-Import Bank of the United States, at james.burrows@exim.gov or 202-565-3801.

SUPPLEMENTARY INFORMATION:

Correction

In the Federal Register of Friday, August 28, 2020 in FR Doc Public Notice: EIB-2020-0007 on page 53369, in the first column, correct the second sentence in the SUMMARY to read:

The Jobs Act mandated that until the SBA establishes a permanent tangible net worth and average net income based alternative size standard, SBA shall use the following alternative size standard for applicants for business loans under Section 7(a) of the Small Business Act (7(a) Loan Program) and applicants for development company loans under Title V of the Small Business Investment Act of 1958 (504 Loan Program) in addition to the use of industry based size standards: not more than $15 million in tangible net worth and not more than $5 million in average net income after Federal income taxes (excluding any carryover losses) of the applicant for the 2 full fiscal years before the date of the application (Interim Rule).

DATES: This announcement is made as of September 4, 2020.

Export-Import Bank of the United States.
Joyce B. Stone,
Assistant Corporate Secretary.

[FR Doc. 2020-19651 Filed 9-3-20; 8:45 am]

BILLING CODE 6690-01-P